DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the Centers for Disease Control and Prevention (CDC) announces the following meeting of the aforementioned committee:

Time and Date:

1:30 p.m.-2:30 p.m. (EDT), July 17, 2015

Place: This meeting will be held by teleconference. To participate in the teleconference, please dial (877) 930-8819 and enter code 1579739.

Status: Open to the public, limited only by the availability of telephone ports. The public is welcome to participate during the public comment period, tentatively scheduled from 2:20 p.m. until 2:25 p.m.

Purpose: The Advisory Committee to the Director, CDC, shall advise the Secretary, HHS, and the Director, CDC, on policy and broad strategies that will enable CDC to fulfill its mission of protecting health through health promotion, prevention, and preparedness. The committee recommends ways to prioritize CDC's activities, improve results, and address health disparities. It also provides guidance to help CDC work more effectively with its various private and public sector constituents to make health protection a practical reality.

Matters for Discussion: The Advisory Committee to the Director will receive an update from the External Laboratory Safety Workgroup.

Agenda items are subject to change as priorities dictate.

Contact Person for More Information: Carmen Villar, MSW, Designated Federal Officer, ACD, CDC, 1600 Clifton Road NE., M/S D-14, Atlanta, Georgia 30333; Telephone (404) 639-7158; Email: GHickman@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2015-14749 Filed 6-15-15; 8:45 am]

BILLING CODE 4163-18-P